DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed reinstatement, with change, of a previously approved collection for which approval has expired. In accordance with the Paperwork Reduction Act of 1995, this notice seeks comments concerning enrollment for students and score assessments for FEMA's Independent Study Program.

SUPPLEMENTARY INFORMATION: FEMA's Emergency Management Institute (EMI) provides a wide variety of training to emergency management personnel throughout the country. The EMI Independent Study (IS) Program is part of the FEMA training program authorized under the Robert T. Stafford Disaster Relief and Emergency Act, Public Law 93-288 as amended. These courses are offered online by the Emergency Management Institute (EMI). The IS Program provides valuable training to Federal, State, local and Tribal emergency management personnel and the general citizenry of the United States without having to attend a resident course at EMI, or at a State-sponsored course. The National Incident Management System (NIMS) is our nation's incident management system. Homeland Security Presidential Directive 5, “Management of Domestic Incidents” requires the adoption of NIMS by all Federal departments and agencies. This directive also requires that Federal preparedness assistance funding for States, Territories, local jurisdictions and Tribal entities be dependent on NIMS compliance.

Collection of Information

Title: EMI Independent Study Course Enrollment and Test Answer Sheet.

Type of Information Collection: Reinstatement, with change, of a previously approved collection for which approval has expired.

OMB Number: 1660-0046.

Form Numbers: FEMA Form 95-23.

Abstract: The IS program office collect data from FEMA Form 95-23 to create and update student records and provide students with credit for training completion. The system also allows FEMA to track completions and failures of course exams. The data on the electronic form will be encrypted and sent to the server to be parsed into the Independent Study database. The paper version of the form will be scanned and parsed into the database or key entered into the database.

Affected Public: Individuals or Households, Federal Government, and State, Local or Tribal Government.

Estimated Total Annual Burden Hours:

Annual Burden Hours
Project/activity (survey, form(s), focus group, etc.) | Number of respondents | Frequency of responses | Burden hours per respondent | Annual responses | Total annual burden hours
| (A) | (B) | (C) | (A × B) | (A × B× C)
FEMA Form 95-23 Paper | 88,312 | 4 | 45 mins | 353,248 | 264,936
FEMA Form 95-23 Electronic | 794,805 | 4 | 30 mins | 3,179,220 | 1,589,610
Total | 883,117 |  |  | 3,532,468 | 1,854,546

Estimated Cost: FEMA has estimated a total annual cost burden of $137,767 will be used by students who will mail FEMA Form 95-23 (353,248 × .39 cents stamp = $137,767). The hour burden cost to respondents using wage rates has estimated to be 28% ($9,668,863) of Individuals and Households and 72% ($31,125,213) of State, Local, Tribal and Federal Officials will enroll in Independent Study courses.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 13, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Jennifer A. Ogle, Independent Study Project Officer, Distant Learning Section, Emergency Management Institute, at (301) 447-1585 for additional information. You may contact the Records Management Branch for copies of the proposed collection of information at facsimile number (202) 646-3347 or e-mail address: FEMA-Information-Collections@dhs.gov.

Dated: February 2, 2007.
John A. Sharetts-Sullivan,
Chief, Records Management and Privacy Information Resources Management Branch, Information Technology Services Division, Federal Emergency Management Agency, Department of Homeland Security.

[FR Doc. E7-2288 Filed 2-9-07; 8:45 am]

BILLING CODE 9110-11-P